ENVIRONMENTAL PROTECTION AGENCY

[FRL-6964-4]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. Seq.). An agency may not conduct or sponsor, and a person is not required to respond to, a collection of information unless it displays a currently valid OMB control number. The OMB control numbers for EPA's regulations are listed in 40 CFR part 9 and 48 CFR chapter 15.

FOR FURTHER INFORMATION CONTACT: Sandy Farmer at 260-2740, or email at Farmer.sandy@epa.gov, and please refer to the appropriate EPA Information Collection Request (ICR) Number.

SUPPLEMENTARY INFORMATION:

OMB Responses To Agency Clearance Requests

OMB Approvals

EPA ICR No. 1250.06; Request for Contractor Access to TSCA Confidential Business Information; was approved 02/08/2001; OMB No. 2070-0075; expires 02/29/2004.

EPA ICR No. 1780.02; Voluntary Cover Sheet for TSCA Submissions; was approved on 02/02/2001; OMB No. 2070-0156; expires 02/29/2004.

EPA ICR No. 1591.11; Modifications to Standards and Requirements for Reformulated and Conventional Gasoline; in 40 CFR part 80, subpart D, E, and F; was approved 02/02/2001; OMB No. 2060-0277; expires 03/31/2001

EPA ICR No. 1287.06; Questionnaire for Nominees for the Annual National Clean Water Act Recognition Awards Program (National Wastewater Management Excellence Awards Program); was approved 02/02/01; OMB No. 2040-0101; expires 02/29/2004.

EPA ICR No. 1666.05; NESHAP for Commercial Ethylene Oxide Sterilization and Fumigation Operations; in 40 CFR part 63 subpart O; was approved 02/02/2001; OMB No. 2060-0283; expires 02/29/2004.

EPA ICR No. 1673.03; Reporting and Recordkeeping Requirements for Importation of Nonconforming Non-road Compression Ignition (CI) & Small Spark Ignition (SI) Engines; in 40 CFR part 90.604, 90.611-90.613; was approved 02/09/2001; OMB No. 2060-0294; expires 10/31/2003.

EPA ICR No. 1176.06; NSPS for New Residential Wood Heaters; in 40 CFR 60.530-60.539(b), subpart AAA; was approved 02/09/2001; OMB No. 2060-0161; expires 02/29/2004.

EPA ICR No. 1604.06; NSPS Secondary Brass and Bronze Production Plants; in 40 CFR part 60, subparts M, P, Q, R, and S; was approved 02/02/2001; OMB No. 2060-0110; expires 02/29/2004.

EPA ICR No. 0116.06; Emission Control System Performance Warranty Regulations and Voluntary Aftermath Part Certification Program, in 40 CFR part 85, subpart V; was approved 02/12/2001; OMB No. 2060-0060; expires 02/29/2004.

EPA ICR No. 1716.03; NESHAP for Wood Furniture Manufacturing Operations; in 40 CFR part 63, subpart JJ; was approved 02/12/2001; OMB No. 2060-0324; expires 02/29/2004.

EPA ICR No. 1038.10; Invitation for Bids and Request for Proposals (IFBs and RFPs); was approved 02/09/2001; OMB No. 2030-0006; expires 02/29/2004.

EPA ICR No. 1611.04; NESHAP for Chromium Emissions from Hard and Decorative Chromium Electroplating and Chromium Anodizing Tanks; in 40 CFR part 63, subpart N; was approved 02/13/2001; OMB No. 2060-0327; expires 02/29/2004.

EPA ICR No. 1946.01; Community Water System Survey; was approved 02/13/2001; OMB No. 2040-0227; expires 02/29/2004.

EPA ICR No. 1672.03; Request for Information for Bioremediation Field Initiative Database System; was approved 02/19/2001; OMB No. 2080-0048; expires 02/29/2004.

EPA ICR No. 1427.06; National Pollutant Discharge Elimination System (NPDES) Compliance Assessment/Certification Information; in 40 CFR parts 122, 123, 124, 125, and 501; was approved 02/23/2001; OMB No. 2040-0110; expires 02/29/2004.

EPA ICR No. 1869.02; N ESHAP for Hazardous Air Pollutants: Manufacture of Amino-Phenolic Resins; in 40 CFR part 63, subpart A and H; was approved 02/22/2001; OMB No. 2060-0434; expires 02/29/2004.

EPA ICR No. 1781.02; NESHAP for Hazardous Air Pollutants for Source Categories; Pharmaceutical Production, in 40 CFR part 63, Subpart GGG; was approved 02/27/2001; OMB No. 2060-0358; expires 02/29/2004.

EPA ICR No. 1659.04; NESHAP for Hazardous Air Pollutants; in 40 CFR part 63, subpart R; was approved 02/28/2001; OMB No. 2060-0325; expires 02/29/2004.

EPA ICR No. 1432.18; Record keeping and Periodic Reporting of the Production, Import, Recycling, Destruction, Transshipment and Feedstock Use of Ozone-Depleting Substances; in 40 CFR part 82, subpart A; was approved 03/05/2001; OMB No. 2020-0170; expires 10/31/2003.

EPA ICR No. 1550.05; Conflict of Interest; was approved 02/08/2001; OMB No. 2030-0023; expires 02/29/2004.

EPA ICR No. 1659.04; NESHAP for Gasoline Distribution Facilities; was approved 02/27/2001; OMB No. 2060-0325; expires 02/29/2004.

EPA ICR No. 1961.01; Meat Products Industry Survey; was approved 03/01/2001; OMB No. 2040-0225; expires 02/29/2004.

Short Term Extensions

EPA ICR No. 0916; Annual Updates of Emission Data to the Aromatic Information Retrieval System (AIRS); in 40 CFR parts 51.321, 322, and 323; OMB No. 2060-0088; on 01/31/2001 OMB extended the expiration through 4/30/2001.

EPA ICR No. 1414.03; Hazardous Organic NESHAP (HON); in 40 CFR part 63.100-152, subparts F. G, H, and I; OMB No. 2060-0282; on 02/15/2001 OMB extended the expiration date through 04/30/2001.

EPA ICR No. 0857.07; Polychlorinated Biphenyls (PCBs): Manufacturing, Processing, and Distribution in Commerce Exemptions; in 40 CFR part 750; OMB No. 2070-0021; on 02/23/2001 OMB extended the expiration date through 05/31/2001.

EPA ICR No. 1001.06; Polychlorinated Biphenyls (PCBs); Exclusions, Exemptions, and Use Authorizations; in 40 CFR part 761; OMB No. 2070-0008; on 02/23/2001 OMB extended the expiration date through 05/31/2001.

Comments Filed

EPA ICR No. 1947.01; NESHAP for Vegetable Oil Production; on 02/12/2001 OMB filed a comment under comment No. 2060-0453. Note, this is not an OMB approval number.

EPA ICR No. 1966.01; Reporting and Record keeping Requirements for NESHAP for Boat Manufacturing; in 40 CFR part 63, subpart VVV; on 02/12/2001 OMB filed comment under comment No. 2060-0455. Note, this is not an OMB approval number.

EPA ICR No. 2006.01; Hazardous Waste Listing for Paint Production Wastes; on 03/12/2001 filed a comment under comment No. 2050-0177. Note, this is not an OMB approval number.

Withdrawals

EPA ICR No. 1984.01; NESHAP for Plywood and Composite Wood Products Manufacturing Plants (Proposed Rule); on 02/13/2001 this ICR was withdrawn from OMB review.

EPA ICR No. 1967.01; NESHAP for Stationary Combustion Turbines; on 02/13/2001 this ICR was withdrawn from OMB review.

EPA ICR No. 1952.01, NESHAP for Metal Furniture Surface Coating Operations; on 02/13/2001 this ICR was withdrawn from OMB review.

EPA ICR No. 2002.01; Cross-Media Electronic Reporting and Record keeping (Proposed Rule); on 02/19/2001 this ICR was withdrawn from OMB review.

EPA ICR No. 2003.01; NESHAP for Recordkeeping and Reporting Requirements for Integrated Iron and Steel Manufacturing; on 03/07/2001 this ICR was withdrawn from OMB review.

OMB Disapproval

EPA ICR No. 1989.01; Proposed Regulatory Revisions to the NPDES Regulations for Concentrated Animal Feeding Operations and Feedlot Effluent Limitation Guidelines; this ICR was disapproved by OMB 02/08/2001.

Dated: March 20, 2001
Oscar Morales,
Director, Collection Strategies Division.

[FR Doc. 01-8804 Filed 4-9-01; 8:45 am]

BILLING CODE 6560-50-P